MERIT SYSTEMS PROTECTION BOARD

Appointment of Members to the Performance Review Board

AGENCY: Merit Systems Protection Board.

ACTION: Notice of appointment of members to the Performance Review Board (PRB).

SUMMARY: This notice publishes the names of the new and current members of the Performance Review Board as required by 5 U.S.C. 4314(c)(4). Lonnie L. Crawford will continue as Chairman. John Palguta, Robert Lawshe and Mary Joyce Carlson have been appointed new members. John Seal will continue to serve on the PRB.

EFFECTIVE DATE: May 3, 2000.

FOR FURTHER INFORMATION CONTACT: Linda Nicholson, Personnel Officer, U.S. Merit Systems Protection Board, 1120 Vermont Avenue, NW., Washington, DC 20419.

Dated: April 26, 2000.
Robert E. Taylor,
Clerk of the Board.

[FR Doc. 00-10958 Filed 5-2-00; 8:45 am]

BILLING CODE 7400-01-M